DEPARTMENT OF TRANSPORTATION

Federal Highway Administration

Environmental Impact Statement Adoption; Washington, DC

AGENCY: Federal Highway Administration (FHWA), DOT.

ACTION: Notice of intent.

SUMMARY: The FHWA is issuing this notice to advise the public of its intent to adopt an existing Final Environmental Impact Statement (EIS) in accordance with the Council on Environmental Quality regulations, 40 CFR 1506.3. The Final EIS has been prepared and approved by the General Services Administration (GSA), National Capital Region.

FOR FURTHER INFORMATION CONTACT: Jack Van Dop, Senior Technical Specialist, Federal Highway Administration, 21400 Ridgetop Circle, Sterling, VA 20166, Telephone 703-404-6282

SUPPLEMENTARY INFORMATION:

Electronic Access

An electronic copy of this document may be downloaded by using a computer, modem and suitable communications software from Government Printing Office's Electronic Bulletin Board Service at (202) 512-1661. Internet users may reach the Office of the Federal Register's home page at: http://www.nara.gov/fedreg and the Government Printing Office's Web site at: http://www.access.gpo.gov/nara. The Final EIS, prepared by GSA is posted at http://www.stelizabethswestcampus.com. A related Section 4(f) Evaluation, prepared by FHWA is posted at the above project Web site as well as at http://www.efl.fhwa.dot.gov/projects-environment.aspx. A hard copy of the GSA Final EIS and the Section 4(f) Evaluation can be viewed at the following location until March 30, 2009: Federal Highway Administration, Eastern Federal Lands Highway Division, 21400 Ridgetop Circle, Sterling, VA 20166.

Background

The FHWA, in cooperation with the District of Columbia Department of Transportation (DDOT) intends to adopt those portions of an approved Final EIS, related to the specific transportation aspects, for consolidation of the Department of Homeland Security (DHS) Headquarters offices located in the District of Columbia. The FHWA, in consultation with the DDOT, will determine if additional documentation will be provided as a supplement to this Final EIS prior to issuing a decision document. The Final EIS was prepared by the General Services Administration, National Capital Region. The FHWA, DDOT and other federal agencies are cooperating agencies for this Final EIS. The Revised Notice of Intent for the EIS appeared in the FR, Volume 72, Number 124, June 28, 2007. The project consists of consolidation of the DHS Headquarters at the St. Elizabeths Campus in Southeast Washington, DC. DHS requested that GSA fulfill its requirement of collocating 4.5 million gross square feet of office; with parking, the project would accommodate up to 6.4 million gross square feet of development and adaptive re-use. The EIS considered the social, environmental, and economic impacts of the project. The No-Action alternative, three campus redevelopment alternatives, four interchange alternatives (I-295/Malcolm X Interchange) and a transportation no-build alternative were considered in the Final EIS.

Agency Action

The FHWA action subject to the requirements of the National Environmental Policy Act for this project is approval of modifications to the I-295/Malcolm X Interchange, and a related access road. Approval of modifications to the interchange may have the potential to impact other transportation infrastructure in the District of Columbia. The GSA preferred alternative is identified in the Final EIS. In accordance with 49 U.S.C. 303, the FHWA has also prepared and coordinated the distribution of a Section 4(f) Evaluation for the project. The Evaluation assesses the reasonable transportation alternatives subject to Section 4(f) to determine if they are they are the only feasible and prudent alternatives pursuant to Section 4(f). In addition, FHWA will prepare its own Record of Decision for the Selected Alternative in accordance with 40 CFR 1505.2.

(Catalog of Federal Domestic Assistance Program Number 20.205, Highway Planning and Construction. The regulations implementing Executive Order 12372 regarding intergovernmental consultation on Federal programs and activities apply to this proposed action.)

Authority: 23 U.S.C. 315; 49 CFR 1.48.

Dated: January 14, 2009.
Karen A. Schmidt,
Director, Program Administration.

[FR Doc. E9-1385 Filed 1-22-09; 8:45 am]

BILLING CODE 4910-22-P